DEPARTMENT OF LABOR

Employment and Training Administration

[NAFTA-06295]

Sun Belt Interplex, Inc., Tamarac, FL; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on April 22, 2002, in response to a petition filed by a company official on behalf of workers at Sun Belt Interprex, Inc., Tamarac, Florida.

The petitioner has requested that the petition be withdrawn. Consequently, further investigation in this case would serve no purpose, and the investigation has been terminated.

Signed at Washington, DC, this 15th day of July, 2002.
Linda G. Poole,
Certifying Officer, Division of Trade Adjustment Assistance.

[FR Doc. 02-19093 Filed 7-26-02; 8:45 am]

BILLING CODE 4510-30-P